DEPARTMENT OF LABOR

Bureau of Labor Statistics

Proposed Collection; Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Bureau of Labor Statistics (BLS) is soliciting comments concerning the proposed revision of the “Consumer Price Index Commodities and Services Survey.” A copy of the proposed information collection request (ICR) can be obtained by contacting the individual listed below in the Addresses section of this notice.

DATES: Written comments must be submitted to the office listed in the ADDRESSES section below on or before March 21, 2005.

ADDRESSES: Send comments to Amy A. Hobby, BLS Clearance Officer, Division of Management Systems, Bureau of Labor Statistics, Room 4080, 2 Massachusetts Avenue, NE., Washington, DC 20212, telephone number 202-691-7628. (This is not a toll free number.)

FOR FURTHER INFORMATION CONTACT: Amy A. Hobby, BLS Clearance Officer, telephone number 202-691-7628. (See ADDRESSES section.)

SUPPLEMENTARY INFORMATION:

I. Background

Under the direction of the Secretary of Labor, the Bureau of Labor Statistics (BLS) is directed by law to collect, collate, and report full and complete statistics on the conditions of labor and the products and distribution of the products of the same; the Consumer Price Index (CPI) is one of these statistics. The collection of data from a wide spectrum of retail establishments and government agencies is essential for the timely and accurate calculation of the Commodities and Services (C&S) component of the CPI.

The CPI is the only index compiled by the U.S. Government that is designed to measure changes in the purchasing power of the urban consumer's dollar. The CPI is a measure of the average change in prices over time paid by urban consumers for a market basket of goods and services.

The CPI is used most widely as a measure of inflation, and serves as an indicator of the effectiveness of government economic policy. It also is used as a deflator of other economic series, that is, to adjust other series for price changes and to translate these series into inflation-free dollars. A third major use of the CPI is to adjust income payments. Almost two million workers are covered by collective bargaining contracts which provide for increases in wage rates based on increases in the CPI.

The continuation of the collection of prices for the CPI is essential since the CPI is the nation's chief source of information on retail price changes. If the information on C&S prices were not collected, Federal fiscal and monetary policies would be hampered due to the lack of information on price changes in a major sector of the U.S. economy, and estimates of the real value of the Gross National Product could not be made. The consequences to both the Federal and private sectors would be far-reaching and would have serious repercussions on Federal government policy and institutions.

II. Current Action

The Telephone Point of Purchase Survey (TPOPS) is a household survey used to identify the universe of outlets from which sampled outlets are selected. A quarter of the CPI's priced geographic areas are surveyed each year, so that over a four year period the entire outlet sample is reselected.

A new initiative to reinitiate a subset of the currently priced item sample in existing outlets to account for new goods has recently been deployed. This initiative is referred to as Item Rotation. Item rotation is a process that allows for the inclusion of new goods when reinitiating existing quotes within currently priced outlets and enables the item sample to be refreshed without the expense and delay of a full TPOPS rotation. Item rotation is completed at currently priced outlets for selected item categories where the priced items are reinitiated two years after the original initiation, thus offering the chance that new goods will be selected for pricing. An example is prescription drugs where, based on current sales data, a new sample of prescribed drugs will be selected to replace the currently priced drugs. Since this reselection will include all currently dispensed drugs, those prescription drugs that have been introduced since the previous initiation will have a chance to be selected.

A key element completed during 2004 was to convert all on going data collection and transmission to electronic systems. The introduction of a Computer-Assisted Data Collection (CADC) for the C&S portion of the CPI has resulted in significant advantages by increasing productivity and improving the overall quality of the CPI. Electronic data collection and transmission provide long-term savings through a major reduction of mail, paperwork, and printing costs. Electronic systems allow for price collection to cover the entire month, reduce data capture mistakes, speed up review time, and to improve survey logistics management.

Type of Review: Revision of a currently approved collection.

Agency: Bureau of Labor Statistics.

Title: Consumer Price Index Commodities and Services Survey.

OMB Number: 1220-0039.

Affected Public: Business or other for-profit; not-for-profit institutions; and State, local, or tribal government.

Activity | Total number of respondents | Frequency | Total annual responses | Hours per response (average) | Estimated total burden hours
Pricing | 42,314 | Monthly/Bimonthly | 385,904 | .33 | 127,348
Initiation | 12,634 | Annual | 12,634 | 1.0 | 12,634
Re-initiation | 440 | Annual | 440 | 1.0 | 440
Test pricing | 1,900 | Annual | 1,900 | .65 | 1,235
Totals | 57,288 |  | 400,878 |  | 141,657

Total Burden Cost (Capital/Startup): $0.

Total Burden Cost (Operating/Maintenance): $0.

III. Desired Focus of Comments

The Bureau of Labor Statistics is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Comments submitted in response to this notice will be summarized and/or included in the request for Office of Management and Budget approval of the information collection request; they also will become a matter of public record.

Signed in Washington, DC, this 11th day of January 2005.
Cathy Kazanowski,
Chief, Division of Management Systems, Bureau of Labor Statistics.

[FR Doc. 05-1002 Filed 1-18-05; 8:45 am]

BILLING CODE 4510-28-P